FEDERAL COMMUNICATIONS COMMISSION

47 CFR Part 73

[DA 00-2156; MM Docket No. 99-57; RM-9460, RM-9610]

Radio Broadcasting Services; Upton and Pine Haven, WY

AGENCY: Federal Communications Commission.

ACTION: Final rule.

SUMMARY: The Commission, at the request of Windy Valley Broadcasting, allots Channel 290C1 at Upton, Wyoming, as the community's first local aural transmission service (RM-9460). See 64 FR 8786, February 23, 1999. At the request of Mount Rushmore Broadcasting, Inc., we also allot Channel 283A at Upton, Wyoming, and Channel 259A at Pine Haven, Wyoming (RM-9610). Channels 283A and 290C1 can be allotted to Upton in compliance with the Commission's minimum distance separation requirements at city reference coordinates. The coordinates for Channels 283A and 290C1 at Upton are 44-05-54 North Latitude and 104-37-36 West Longitude. Additionally, Channel 259A can be allotted to Pine Haven in compliance with the Commission's minimum distance separation requirements at city reference coordinates. The coordinates for Channel 259A at Pine Haven are 44-21-28 North Latitude and 104-48-36 West Longitude.

DATES: Effective November 6, 2000. A filing window for Channels 283A and 290C1 at Upton, Wyoming, and Channel 259A at Pine Haven, Wyoming, will not be opened at this time. Instead, the issue of opening filing windows for these channels will be addressed by the Commission in a subsequent order.

ADDRESSES: Federal Communications Commission, Washington, DC.

FOR FURTHER INFORMATION CONTACT: Sharon P. McDonald, Mass Media Bureau, (202) 418-2180.

SUPPLEMENTARY INFORMATION: This is a synopsis of the Commission's Report and Order, MM Docket No. 99-57, adopted September 13, 2000, and released September 22, 2000. The full text of this Commission decision is available for inspection and copying during normal business hours in the FCC Reference Information Center (Room CY-A257), 445 12th Street, SW, Washington, DC. The complete text of this decision may also be purchased from the Commission's copy contractors, International Transcription Service, Inc., (202) 857-3800, 1231 20th Street, NW., Washington, DC 20036.

List of Subjects in 47 CFR Part 73

Radio broadcasting.

Part 73 of title 47 of the Code of Federal Regulations is amended as follows:

PART 73—[AMENDED]

1. The authority citation for part 73 continues to read as follows:

Authority: 47 U.S.C. 54, 303, 334, 336.

§ 73.202 [Amended]

2. Section 73.202(b), the Table of FM Allotments under Wyoming is amended by adding Upton, Channels 283A and 290C1; and Pine Haven, Channel 259A.

Federal Communications Commission.
John A. Karousos,
Chief, Allocations Branch, Policy and Rules Division, Mass Media Bureau.

[FR Doc. 00-25392 Filed 10-3-00; 8:45 am]

BILLING CODE 6712-01-P